DEPARTMENT OF COMMERCE

National Oceanic and Atmospheric Administration

[I.D. 102802D]

Endangered and Threatened Species; Take of Anadromous Fish

AGENCY: National Marine Fisheries Service (NMFS), National Oceanic and Atmospheric Administration (NOAA), Commerce.

ACTION: Receipt of applications for scientific research permit (1407) and request for comment.

SUMMARY: Notice is hereby given that NMFS has received an application for scientific research from California Department of Fish and Game (CDFG) in Chico, CA (1407). This permit would affect three Evolutionarily Significant Units (ESUs) of salmonids identified in Supplementary Information below. This document serves to notify the public of the availability of the permit application for review and comment before a final approval or disapproval is made by NMFS.

DATES: Written comments on the permit applications must be received at the appropriate address or fax number (see ADDRESSES) no later than 5 p.m. Pacific Standard Time on December 9, 2002.

ADDRESSES: Written comments on the modification request should be sent to the appropriate office as indicated below. Comments may also be sent via fax to the number indicated for the request. Comments will not be accepted if submitted via e-mail or the Internet. The applications and related documents are available for review, by appointment, for permit 1407: Protected Resources Division, NMFS, 650 Capitol Mall, Suite 8-300, Sacramento, CA 95814 (ph: 916-930-3600, fax: 916-930-3629). Documents may also be reviewed by appointment in the Office of Protected Resources, F/PR3, NMFS, 1315 East-West Highway, Silver Spring, MD 20910 3226 (301-713-1401).

FOR FURTHER INFORMATION CONTACT: Rosalie del Rosario at phone number 916-930-3600, or e-mail: Rosalie.delRosario@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222 226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to three federally listed salmonid ESUs: endangered Sacramento River Winter-run Chinook salmon (Oncorhynchus tshawytscha), threatened Central Valley Spring-run Chinook salmon (O. tshawytscha), and threatened Central Valley steelhead (O. mykiss).

New Applications Received

CDFG requests a 5-year permit for takes of adult and juvenile threatened Central Valley Spring-run Chinook salmon and threatened Central Valley steelhead to study their life history. The goal of the study is to provide baseline population information for evaluating restoration efforts in Butte and Big Chico creeks and to provide information for the recovery of the species.

Dated: November 1, 2002.
Margaret Lorenz,
Acting Chief, Endangered Species Division,Office of Protected Resources, National Marine Fisheries Service.

[FR Doc. 02-28337 Filed 11-6-02; 8:45 am]

BILLING CODE 3510-22-S